DEPARTMENT OF THE TREASURY

Internal Revenue Service

26 CFR Part 1

[TD 8867]

RIN 1545-AW69

Passive Foreign Investment Companies; Definition of Marketable Stock; Correction

AGENCY: Internal Revenue Service (IRS), Treasury.

ACTION: Correction to final regulations.

SUMMARY: This document contains a correction to final regulations which were published in the Federal Register on Tuesday, January 25, 2000 (65 FR 3817), relating to the new mark-to-market election for stock of a passive foreign investment company.

DATES: This correction is effective January 25, 2000.

FOR FURTHER INFORMATION CONTACT: Robert Laudeman at (202) 622-3840 (not a toll-free call).

SUPPLEMENTARY INFORMATION:

Background

The final regulations that are the subject of this correction are under section 1296 of the Internal Revenue Code.

Need for Correction

As published, the final regulations (TD 8867) contain an error in the title of the official signing the document.

Correction of Publication

Accordingly, the publication of the final regulations (TD 8867), which were the subject of FR Doc. 00-1530, is corrected as follows:

1. On page 3820, third column, at the end of TD 8867, the title of the official signing the document, “Assistant Secretary of the Treasury.” is corrected to read “Acting Assistant Secretary of the Treasury (Tax Policy).”

Dale D. Goode,
Federal Register Liaison, Assistant Chief Counsel (Corporate).

[FR Doc. 00-5237 Filed 3-23-00; 8:45 am]

BILLING CODE 4830-01-U